FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Martinez Cargo Express, Corp., 8026 Sunport Drive, Unit 301, 302, Orlando, FL 32809. Officers: Jose R. Martinez, President (Qualifying Individual), Martha J. Martinez, Vice President.

ALT Intermodal Inc. dba Cebu International Logistics, 675 Hegenberger Road, #201, Oakland, CA 94621. Officer: Augusto Gualberto, Treasurer (Qualifying Individual).

Great Lakes Container Line LLC, 881 Mercer Street, 3rd Floor, Atlanta, GA 30316. Officer: John H. Treatrail, President (Qualifying Individual).

HS Global, Inc., 1161 Sandhill Ave., Carson, CA 90748. Officers: Nae S. Park, President (Qualifying Individual), Bo K. Cho, Director.

Fargo Transportation Service Line, Inc., 317 S. Isis Ave., Ste. 105, Inglewood, CA 90301. Officers: Ruey Rong Cheng, Secretary (Qualifying Individual), Tsung L. Lin, CEO.

Eagle Transport Services Inc., 20 W. Fairview Ave., Valley Stream, NY 11580. Officers: Gerald J. Donnelly, President (Qualifying Individual), Matthew J. Donnelly, Vice President.

Non-Vessel Operating Common Carrier and Ocean Freight Forwarder Transportation Intermediary Applicants

UEX Logistics Systems, Inc., 500 Ocean Ave., East Rockaway, NY 11518. Officers: Joseph Costanzo, President (Qualifying Individual), Steven Z. Zografakis, Secretary.

International Shipping Group, LLC, 27800 Wick Road, Romulus, MI 48174. Officer: Farooq S. Khawaja, Member (Qualifying Individual).

Global Freight International Inc., 440 McClellan Highway, East Boston, MA 02128. Officers: Bernard A. Wilcken, President (Qualifying Individual), Ian C. Wilcken, Clerk.

Spectrum Trucking Inc. dba Spectrum Logistics, 100 Bell Tel Way, Jacksonville, FL 32216. Officers: John C. Emery, Jr., President (Qualifying Individual), Frank Peake, Vice President.

Fr. Meyer's Sohn North America LLC, One First Avenue, Suite 100, W. Reading, PA 19611. Officer: Robert K. Bulack, President (Qualifying Individual).

Hassell Free Shipping Inc., 4407 SW Martin Highway, Palm City, FL 34990. Officers: Vernon Hassell, President (Qualifying Individual), Glenda Hassell, Vice President.

USA Ocean Express LLC dba USA-Ocean Express Agency, 220 Route 46 West, Ste. 214, Little Ferry, NJ 07643. Officer: Mohamed Masound, President (Qualifying Individual).

K Line, Inc., 72 Sharp Street, Ste. C-11, Hingham, MA 02043. Officer: Paul F. Kalita, President (Qualifying Individual).

Dacon Logistics LLC dba CODA Forwarding, 60 Evergreen Lane, Wachtung, NJ 07069. Officer: David Larr, Member (Qualifying Individual).

Universal Relocations, LLC, 1796 Corte Vista St., Brentwood, CA 94513. Officers: Adarsh Dattani, President (Qualifying Individual), Richa Dattani, Secretary.

Waldron Distributors LLC, 118 Waldron Ave., Staten Island, NY 10301. Officers: Beatriz A. Molina, President (Qualifying Individual), Edwin Molina, Secretary.

Ocean Freight Forwarder-Ocean Transportation Intermediary Applicants

Westward Global LLC, 18800 8th Ave., S., Ste. 2100, Seatac, WA 98148. Officers: Robert C. Erion, Jr., Member (Qualifying Individual), Janis E. Erion, Member.

Real Peru Investment, Corp., 11222 N.W. 53 Lane, Doral, FL 33178. Officer: Lorgio R. Maguina, President (Qualifying Individual).

Double River Forwarding LLC, 5117 N.E. 87th Ave., Portland, OR 97220. Officer: Tina R. Lyons, Owner (Qualifying Individual).

C. Steinweg (USA), Inc., 1201 Wallace Street, Baltimore, MD 21230. Officers: Rupert Denney, Secretary (Qualifying Individual), Piet Govers, President.

Penbroke Marine Services Inc., 975 E. Linden Ave., Linden, NJ 07036. Officer: Brian J. Brennan, President (Qualifying Individual).

GCR Logistics, Inc., 15311 Vantage Parkway West, Houston, TX 77032. Officer: Harold J. Gagliano, President (Qualifying Individual).

Momentum Transportation USA, Inc., 5220 Shad Road, Ste. 404, Jacksonville, FL 32257. Officers: Edward K. Abbott, Vice President (Qualifying Individual), Michael J. Liantonio, COO.

Karen V. Gregory,
Assistant Secretary.

[FR Doc. E8-9472 Filed 4-29-08; 8:45 am]

BILLING CODE 6730-01-P